DEPARTMENT OF HEALTH AND HUMAN SERVICES

Office of the Secretary

Surgeon General's Call to Action on Preventing Underage Drinking

AGENCY: Department of Health and Human Services, Office of the Secretary, Office of Public Health and Science, Office of the Surgeon General.

ACTION: Notice and request for comments.

SUMMARY: On November 1, 2005 Surgeon General Richard H. Carmona, M.D., M.P.H., F.A.C.S. announced his intent to issue a Call to Action on Preventing Underage Drinking. Issuance of this Call to Action is planned for the Spring of 2006. The purpose of this notice is to provide individuals and organizations with the opportunity to identify issues and areas of need for consideration in the development of the Call to Action. Comments must be in writing and should not exceed 500 words. All comments will receive careful consideration. However, persons and organizations submitting comments will not receive individual responses.

DATES: Comments must be submitted on, or before, March 15, 2006. Comments received after this date will not be considered.

ADDRESSES: Comments may be sent by mail or hand delivered to Ron Schoenfeld, Ph.D., Office of the Surgeon General, Department of Health and Human Services, 5600 Fishers Lane, Room 18-66, Rockville, MD 20852, or sent by e-mail to ctacomments@osophs.dhhs.gov.

FOR FURTHER INFORMATION CONTACT: Ron Schoenfeld, Ph.D., Office of the Surgeon General, e-mail: rschoenfeld@osophs.dhhs.gov.

Dated: February 13, 2006.
Stephen W. Long,
Executive Officer, NIAAA, National Institutes of Health.

[FR Doc. E6-2513 Filed 2-21-06; 8:45 am]

BILLING CODE 4140-01-P